DEPARTMENT OF DEFENSE

Office of the Secretary

[Docket ID: DoD-2014-OS-0061]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 7, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Language and National Security Education Office (DLNSEO), ATTN: Alison Patz, 1101 Wilson Boulevard, Suite 1210, Arlington, VA 22209, or call DLNSEO at (703) 696-1991.

SUPPLEMENTARY INFORMATION: Title; Associated Form; and OMB Number: National Security Education Program (Service Agreement Report for Scholarship and Fellowship Awards); DD Form 2752, DD Form 2753; OMB Control Number 0704-0368.

Needs and Uses: The information collection requirement is necessary to record the original award amount and service requirement for each NSEP award recipient (DD Form 2752) and the progress of each NSEP award recipient in fulfilling his/her Congressionally-mandated service requirement signed at the time of award (DD Form 2753).

Affected Public: Individuals or households.

Annual Burden Hours: 1,558.

Number of Respondents: 5,500.

Responses Per Respondent: 1.

Total Annual Responses: 5,500.

Average Burden per Response: 17 minutes.

Frequency: On occasion.

Respondents are undergraduate and graduate students who agree to the terms of their award (DD Form 2752) and who agree upon receipt of award to submit the Service Agreement Report (DD Form 2753) annually until their service requirement is completed in full. The information is used to monitor the progress of award recipients as they fulfill their service obligation, namely, to work in positions related to national security.

Dated: May 2, 2014.
Aaron Siegel,
Alternate OSD Federal Register, Liaison Officer, Department of Defense.

[FR Doc. 2014-10480 Filed 5-6-14; 8:45 am]

BILLING CODE 5001-06-P